DEPARTMENT OF DEFENSE

Department of the Army

Record of Decision (ROD) of the Final Environmental Impact Statement (FEIS) on the Disposal and Reuse of the Stratford Army Engine Plant (SAEP), Stratford, CT

AGENCY: Department of the Army, DoD.

ACTION: Notice of availability.

SUMMARY: The Department of the Army announced the availability of the ROD of the FEIS on the Disposal and Reuse of the Stratford Army Engine Plant, in accordance with the Defense Base Closure and Realignment Act of 1990, Public Law 101-510, as amended.

ADDRESSES: A copy of the ROD may be obtained by writing to Mrs. Shirley Vance, U.S. Army Materiel Command, ATTN: AMCQMA, 5001 Eisenhower Avenue, Alexandria, VA 22333-0001. Copies of the FEIS may be obtained by writing to Mr. Joe Hand, Corps of Engineers, Mobile District, ATTN: PD-EC, P.O. Box 2288, Mobile, AL 36628-0001.

FOR FURTHER INFORMATION CONTACT: Mrs. Shirley Vance by facsimile at (703) 617-6447.

SUPPLEMENTARY INFORMATION: In the ROD, the Army concludes that the FEIS adequately addresses the impacts of property disposal and documents its decision to transfer the property as encumbered. The ROD concludes that approximately 71 of the 75-acre SAEP property will be conveyed subject to restrictions, identified in the FEIS, that relate to the following: asbestos-containing material, an easement for avigation, an easement for public access, other easements and rights-of-way, floodplains, a groundwater use prohibition, historic resources, land use restrictions, lead-based paint, remedial actions, and wetlands. The Army's intent under the ROD is to transfer approximately 71 acres to the SAEP Local Reuse Authority (LRA). The Army may subsequently decide to transfer approximately 4 acres of the SAEP property to the City of Bridgeport for airport purposes. If the City of Bridgeport is unable to acquire the necessary permits and approvals for their proposed activity on the approximately 4-acre parcel within a reasonable period of time after the conveyance of the property to the SAEP LRA, the Army will, consistent with its disposal authorities, convey the 4-acre parcel to the SAEP LRA. Approximately 5 acres of the total acreage being transferred to the LRA will have avigation restrictions for height and electromagnetic, smoke and light emissions. The Army will impose deed restrictions or other requirements to ensure safety and protection of human health and the environment.

The Army has taken all practicable measures to avoid or minimize environmental harm associated with its preferred alternative of encumbered property disposal. Mitigation measures for reuse activities are identified in the FEIS.

Dated: February 5, 2001.
Raymond J. Fatz,
Deputy Assistant Secretary of the Army (Environment, Safety and Occupational Health) OASA(I&E).

[FR Doc. 01-3330 Filed 2-8-01; 8:45 am]

BILLING CODE 3710-08-M